DEPARTMENT OF HOMELAND SECURITY

Coast Guard

33 CFR Part 117

[Docket No. USCG-2012-0086]

Drawbridge Operation Regulations; The Gut, South Bristol, ME

AGENCY: Coast Guard, DHS.

ACTION: Notice of temporary deviation from regulations.

SUMMARY: The Commander, First Coast Guard District, has issued a temporary deviation from the regulation governing the operation of the Gut Bridge, mile 0.2, across The Gut at South Bristol, Maine. The deviation is necessary to facilitate subsurface test boring at the bridge. This deviation will allow the bridge to remain in the closed position for two days.

DATES: This deviation is effective from 7 a.m. on February 29, 2012 through 7 p.m. on March 1, 2012.

ADDRESSES: Documents mentioned in this preamble as being available in the docket are part of docket USCG-2012-0086 and are available online at www.regulations.gov, inserting USCG-2012-0086 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or email Mr. John W. McDonald, Project Officer, First Coast Guard District, telephone (617) 223-8364. If you have questions on viewing the docket, call Renee V. Wright, Program Manager, Docket Operations, telephone 202-366-9826.

SUPPLEMENTARY INFORMATION: The Gut Bridge, across The Gut, mile 0.2, has a vertical clearance in the closed position of 3 feet at mean high water and 12 feet at mean low water. The existing drawbridge operation regulations are listed at 33 CFR 117.5.

The waterway supports recreational vessels of various sizes. There is an alternate route for vessels to use; however, vessels that can pass under the bridge in the closed position may do so at all times.

The owner of the bridge, Maine Department of Transportation, requested a temporary deviation to facilitate subsurface test borings at the bridge.

Under this temporary deviation the Gut Bridge may remain in the closed position from 7 a.m. through 7 p.m. on February 29, 2012 and also on March 1, 2012.

In accordance with 33 CFR 117.35(e), the bridge must return to its regular operating schedule immediately at the end of the designated time period. This deviation from the operating regulations is authorized under 33 CFR 117.35.

Dated: February 10, 2012.
Gary Kassof,
Bridge Program Manager, First Coast Guard District.

[FR Doc. 2012-4020 Filed 2-21-12; 8:45 am]

BILLING CODE 9110-04-P